DEPARTMENT OF THE INTERIOR

National Park Service

National Register of Historic Places; Notification of Pending Nominations and Related Actions

Nominations for the following properties being considered for listing or related actions in the National Register were received by the National Park Service before September 10, 2005. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington, DC 20005; or by fax, 202-371-6447. Written or faxed comments should be submitted by October 17, 2005.

John W. Roberts,
Acting Chief, National Register/National Historic Landmarks Program.

ARKANSAS

Faulkner County

Lee, Carl and Esther, House, (Mixed Masonry Buildings of Silas Owens, Sr. MPS) 17493 US 65S, Damascus, 05001170

Tyler—Southerland House, (Mixed Masonry Buildings of Silas Owens, Sr. MPS) 36 Southerland, Conway, 05001168

Ward, Earl and Mildred, House, (Mixed Masonry Buildings of Silas Owens, Sr. MPS) 1157 Mitchell St., Conway, 05001169

Webb, Joe and Nina, House, (Mixed Masonry Buildings of Silas Owens, Sr. MPS) 2945 Prince, Conway, 05001171

Washington County

Prairie Grove Battlefield (Boundary Increase II), N of US 62, E of Prairie Grove, Prairie Grove, 05001167

COLORADO

Montrose County

North Rim Road, Black Canyon of the Gunnison National Park, Black Canyon of the Gunnison National Park, Crawford, 05001181

GEORGIA

Bartow County

ATCO-Goodyear Mill and Mill Village Historic District, Roughly bounded by Sugar Valley Rd., Cassville rd. and Pettit Creek, Wingfoot Trail and Litchfield St., Cartersville, 05001172

MAINE

Androscoggin County

Keystone Mineral Springs, Keystone Rd., Poland, 05001175

Cumberland County

Battery Steele, Florida Ave., Peaks Island, Portland, 05001176

Lakeside Grange #63, Main St., jct. of Main St. and Lincoln St., Harrison, 05001173

Hancock County

Garland Farm, 1029 ME 3, Bar Harbor, 05001174

MINNESOTA

Cook County

Grand Portage National Monument, Off US 61 within the area of the Grand Portage Indian Reservation, Grand Portage, 05001180

MISSOURI

Madison County

St. Louis, Iron Mountain and Southern Railroad Depot, Allen St., 150 ft. No of Jct. of Allen and Kelly Sts., Fredericktown, 05001178

MONTANA

Park County

Hepburn, John, Place, 626 E. River Rd., Emigrant, 05001177

New Mexico

Santa Fe County

Kelly, Daniel T., House, (Buildings Designed by John Gaw Meem MPS) 531 E. Palace Ave., Santa Fe, 05001182

OREGON

Multnomah County

Harrison Court Apartments, 1834 SW. 5th Ave., Portland, 05001179

[FR Doc. 05-19526 Filed 9-29-05; 8:45 am]

BILLING CODE 4312-51-P